SMALL BUSINESS ADMINISTRATION

[Declaration of Disaster #3383]

State of Mississippi; Amendment #1

In accordance with information received from the Federal Emergency Management Agency, the above-numbered Declaration is hereby amended to include Grenada, Lafayette, Leake, Scott, and Tunica Counties in the State of Mississippi as a disaster area due to damages caused by severe storms, tornadoes, and flooding and to establish the incident period for this disaster as beginning on November 24, 2001 and continuing through December 17, 2001.

In addition, applications for economic injury loans from small businesses located in the following contiguous counties may be filed until the specified date at the previously designated location: Calhoun, Carroll, Jasper, Montgomery, Neshoba, Newton, Pontotoc, Smith, Union, Webster, and Winston Counties in Mississippi, and Lee County in Arkansas. All other counties contiguous to the above-named primary counties have been previously declared.

All other information remains the same, i.e., the deadline for filing applications for economic injury is September 9, 2002.

(Catalog of Federal Domestic Assistance Program Nos. 59002 and 59008.)
Dated: December 21, 2001.
James E. Rivera,
Acting Associate Administrator for Disaster Assistance.

[FR Doc. 02-471 Filed 1-7-02; 8:45 am]

BILLING CODE 8025-01-P